DEPARTMENT OF JUSTICE

[OMB Number 1121-0329]

Agency Information Collection Activities; Proposed Collection; Comments Requested: Office of Justice Programs' Solicitation Template

ACTION: 60-Day notice.

The Department of Justice (DOJ), Office of Justice Programs (OJP), has submitted the following information collection request to the Office of Management and Budget (OMB) for review and approval in accordance with the Paperwork Reduction Act (PRSA) of 1995. The proposed information collection is published to obtain comments from the public and affected agencies. Comments are encouraged and will be accepted for sixty days (60) until April 5, 2013. This process is conducted in accordance with 5 CFR 1320.10.

If you have additional comments on the estimated public burden or associated response time, suggestions, or need a copy of the proposed information collection instrument with instructions or additional information, please contact: Maria Swineford, (202) 616-0109, Office of Audit, Assessment, and Management, Office of Justice Programs, U.S. Department of Justice, 810 Seventh Street NW., Washington, DC 20531 or maria.swineford@usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information

(1) Type of Information Collection: Renewal of a currently approved collection (1121-0329 and 1121-0188).

(2) The Title of the Form/Collection: OJP Solicitation Template

(3) The Agency Form Number, if any, and the Applicable Component of the Department Sponsoring the Collection: No form number available. Office of Justice Programs, Department of Justice.

(4) Affected Public Who Will be Asked or Required to Respond, as well as a Brief Abstract: The primary respondents are state agencies, tribal governments, local governments, colleges and universities, non-profit organizations, for-profit organizations, and faith-based organizations. The purpose of the solicitation template is to provide a framework to develop program-specific announcements soliciting applications for funding. A program solicitation outlines the specifics of the funding program; describes requirements for eligibility; instructs an applicant on the necessary components of an application under a specific program (e.g., project activities, project abstract, project timeline, proposed budget, etc.); outlines program evaluation and performance measures; explains selection criteria and the review process; and provides registration dates, deadlines, and instructions on how to apply within the designated application system. This collection is also incorporating the previously approved collection for the OJP Budget Detail Worksheet (1121-0188). The Budget Detail Worksheet is only required during the application process, and therefore should be included in this collection with the solicitation template, reducing the number of OMB PRA reviews and approvals needed. The primary respondents are the same, as listed above, and the worksheet provides auto calculated fields and instructions for the necessary budget information required for each application submission (e.g. personnel/benefits, travel, indirect cost rates, etc.). The form is not mandatory and is recommended as guidance to assist the applicant in preparing their budget as authorized in 28 CFR part 66 and 28 CFR part 70

(5) An Estimate of the Total Number of Respondents and the Amount of Time Estimated for an Average Respondent to Respond: It is estimated that information will be collected annually from approximately 10,000 applicants. Annual cost to the respondents is based on the number of hours involved in preparing and submitting a complete application package. Mandatory requirements for an application include a program narrative and budget details and narrative (formerly 1121-0188). Optional requirements can be imposed depending on the type of program to include, but not limited to: Project abstract, indirect cost rate agreement, tribal authorizing resolution, timelines, logic models, memoranda of understanding, letters of support, resumes, disclosure of pending applications, and research and evaluation independence and integrity. Public reporting burden for this collection of information is estimated at up to 32 hours per application. The 32-hour estimate is based on the amount of time to prepare a research and evaluation proposal, one of the most time intensive types of application solicited by OJP. The estimate of burden hours is based on OJP's prior experience with the research application submission process.

(6) An Estimate of the Total Public Burden (in hours) Associated with the collection: The estimated public burden associated with this application is 320,000 hours.

If additional information is required contact: Jerri Murray, Department Clearance Officer, United States Department of Justice, Justice Management Division, Policy and Planning Staff, Two Constitution Square, 145 N Street NE., Room 3W-1407-B, Washington, DC 20530.

Dated: January 29, 2013.
Jerri Murray,
Department Clearance Officer for PRA, U.S. Department of Justice.

[FR Doc. 2013-02234 Filed 2-1-13; 8:45 am]

BILLING CODE 4410-18-P